DEPARTMENT OF COMMERCE

International Trade Administration

Export Trade Certificate of Review

AGENCY: International Trade Administration, Commerce.

ACTION: Notice of application to amend an Export Trade Certificate of Review.

SUMMARY: The Office of Export Trading Company Affairs (“OETCA”), International Trade Administration, U.S. Department of Commerce, has received an application to amend an Export Trade Certificate of Review (“Certificate”). This notice summarizes the proposed amendment and requests comments relevant to whether the Certificate should be issued.

FOR FURTHER INFORMATION CONTACT: Jeffrey C. Anspacher, Director, Office of Export Trading Company Affairs, International Trade Administration, (202) 482-5131 (this is not a toll-free number) or by E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, U.S. Department of Commerce, Room 1104H, Washington, DC 20230, or transmit by E-mail at oetca@ita.doc.gov. Information submitted by any person is exempt from disclosure under the Freedom of Information Act (5 U.S.C. 552). However, nonconfidential versions of the comments will be made available to the applicant, if necessary, for determining whether or not to issue the Certificate. Comments should refer to this application as “Export Trade Certificate of Review, application number 97-7A003.”

The Association for the Administration of Rice Quotas, Inc.’s (“AARQ”) original Certificate was issued on January 21, 1998 (63 FR 4220, January 28, 1998) and last amended on November 19, 2002 (68 FR 8739, February 25, 2003). A summary of the application for an amendment follows.

Summary of the Application

Applicant: Association for the Administration of Rice Quotas, Inc. (“AARQ”), c/o David Van Oss of Riviana Foods Inc., 2777 Allen Parkway, Houston, Texas 77019.

Contact: M. Jean Anderson, Esq., Counsel to Applicant, Telephone: (202) 682-7217.

Application No.: 97-7A003.

Date Deemed Submitted: December 4, 2003.

Proposed Amendment: AARQ seeks to amend its Certificate to:

1. Add each of the following companies as a new “Member” of the Certificate within the meaning of § 325.2(l) of the Regulations (15 CFR 325.2(l) (2003)): Itochu International Inc., New York, New York (a subsidiary of Itochu Corporation, Tokyo, Japan); and Veetee Rice Inc., Springfield, Virginia (a subsidiary of Veetee Investments, Nassau, Bahamas).

2. Change the listing of the following Members: “California Commodity Traders, LLC, Robbins, California, and its affiliate American Commodity Company, LLC, Robbins, California” should be amended to read “American Commodity Company, LLC, Robbins, California”; “Cargill Americas, Inc., Wayzata, Minnesota” should be amended to read “Cargill Americas, Inc., Coral Gables, Florida”; “ConAgra Foods, Inc., Omaha, Nebraska, and its subsidiary, Alliance Grain, Inc., Voorhees, New Jersey” should be amended to read “ConAgra Foods, Inc., Omaha, Nebraska, and its subsidiary, Alliance Grain, Inc., Marlton, New Jersey”; “Gulf Pacific, Inc., and its subsidiaries, Gulf Pacific Rice Co., Inc., and Gulf Rice Milling, Inc., Houston, Texas” should be amended to read “Gulf Pacific Rice Co., Inc., Gulf Rice Milling, Inc., Houston, Texas, and Harvest Rice, Inc., McGehee, Arkansas (each a subsidiary of Gulf Pacific, Inc., Houston, Texas)”; “Rickmers Rice USA, Inc., St. Louis, Missouri” should be amended to read “Rickmers Rice USA, Inc., Knoxville, Tennessee”; “Sunshine Rice, Inc., Stockton, California (a subsidiary of Sunshine Business Enterprise, Inc.)” should be amended to read “KD International Trading, Inc., Stockton, California (a subsidiary of Sunshine Business Enterprises, Inc.)”; and “Uncle Ben's Inc., Greenville, Mississippi” should be amended to read “Masterfoods USA a Mars, Incorporated Company, Greenville, Mississippi.”

Dated: December 11, 2003.
Jeffrey. C. Anspacher,
Director, Office of Export Trading Company Affairs.

[FR Doc. 03-31069 Filed 12-16-03; 8:45 am]

BILLING CODE 3510-DR-P